DEPARTMENT OF ENERGY

Federal Energy Regulatory Commission

[Docket No. IC18-10-000]

Commission Information Collection Activities (FERC-921); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-921 (Ongoing Electronic Delivery of Data from Regional Transmission Organizations and Independent System Operators) and submitting the information collection to the Office of Management and Budget (OMB) for review. Any interested person may file comments directly with OMB and should address a copy of those comments to the Commission as explained below. On April 4, 2018, the Commission published a Notice in the Federal Register in Docket No. IC18-10-000 requesting public comments. The Commission received comments from one commenter, a subject respondent, who expressed clear support for the extension request.

DATES: Comments on the collection of information are due July 18, 2018.

ADDRESSES: Comments filed with OMB, identified by OMB Control No. 1902-0257, should be sent via email to the Office of Information and Regulatory Affairs: oira_submission@omb.gov. Attention: Federal Energy Regulatory Commission Desk Officer.

A copy of the comments should also be sent to the Commission, in Docket No. IC18-10-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-921, Ongoing Electronic Delivery of Data from Regional Transmission Organizations and Independent System Operators.

OMB Control No.: 1902-0257.

Type of Request: Three-year extension of the FERC-921 information collection requirements with no changes to the current reporting requirements.

Abstract: The collection of data in the FERC-921 is an effort by the Commission to detect potential anti-competitive or manipulative behavior or ineffective market rules by requiring Regional Transmission Organizations (RTO) and Independent System Operators (ISO) to electronically submit, on a continuous basis, data relating to physical and virtual offers and bids, market awards, resource outputs, marginal cost estimates, shift factors, financial transmission rights, internal bilateral contracts, uplift, and interchange pricing. Individual datasets that the Commission is requesting may be produced or retained by the market monitoring units (MMUs). The Commission directed each RTO and ISO either to: (1) Request such data from its MMU, so that the RTO or ISO can deliver such data to the Commission; or (2) request its MMU to deliver such data directly to the Commission. All data for this collection has (and is expected to continue to) come from each RTO or ISO and not the MMUs. Therefore, any associated burden is counted as burden on RTO and ISO.

Each RTO or ISO may make changes to their individual markets with Commission approval. Each RTO or ISO may also change the data being sent to the Commission to ensure compliance with Order No. 760. Such changes typically require respondents to alter the ongoing delivery of data under FERC-921. For this reason, the burden estimate has been updated to reflect the incremental burden associated with such changes. The burden associated with a changes varies considerably based on the significance of the specific change, therefore, the estimate reflects the incremental burden for an average change. Based on historical patterns of change, staff estimates there to be about one and a half changes per RTO or ISO per year.

Public Comments on 60-day Notice and FERC Response: The Commission received comments from one commenter who is also a subject respondent, the New York Independent System Operator, Inc. They wrote: “The Commission should continue to require the ongoing delivery of data in the same manner that the data is currently delivered, in accordance with FERC Order No. 760 and FERC-921.” This comment clearly supports the Commission's request to extend the information collection without change.

Type of Respondents: Regional transmission organizations and independent system operators.

Estimate of Annual Burden: ¹ The Commission estimates the average annual burden and cost ² for this information collection as follows.

¹ Burden is defined as the total time, effort, or financial resources expended by persons to generate, maintain, retain, or disclose or provide information to or for a Federal agency. Refer to 5 CFR 1320.3 for additional information.

² Costs (for wages and benefits) are based on wage figures from the Bureau of Labor Statistics (BLS) for May 2016 (at https://www.bls.gov/oes/current/naics2_22.htm) and benefits information (for December 2017, issued March 20, 2018, at https://www.bls.gov/news.release/ecec.nr0.htm).

FERC-921
[Ongoing electronic delivery of data from regional transmission organizations and independent system operators]
Category | Number of respondents | Annual number of responses per respondent | Total number of responses | Average burden and cost per response | Total annual burden hours and cost | Annual cost per respondent ($)
| (1) | (2) | (1) * (2) = (3) | (4) | (3) * (4) = (5) | (5) ÷ (1)
Ongoing electronic delivery of data | 6 | 1 | ³ 6 | 52 hrs.; $2,460 ⁴ | 312 hrs.; $14,758 | $2,460
Changes to the delivered data made by the RTO/ISO | 6 | 1 | ⁵ 6 | 480 hrs.; $37,848 ⁶ | 2,880 hrs.; $227,088 | 37,848
Total | 6 | 2 | 12 | 532 hrs.; $40,308 | 3,192 hrs.; $241,846 | 40,308

³ Each RTO/ISO electronically submits data daily. To match with past filings, we are considering the collection of daily responses to be a single response per respondent each year.

⁴ The ongoing electronic delivery of data requires a computer support specialist (code 15-1150), at an hourly cost (wages plus benefits) of $47.30 (rounded).

⁵ Each RTO/ISO is estimated to make one and a half changes yearly. To be consistent with the formulation that the submissions over the course of a year constitute a single response and for the purpose of this calculation, we are assuming that each response requires one and a half changes over the course of the year and estimating burden accordingly.

⁶ Changes to the delivered data require a database administrator (code 15-1141), legal review (code 23-0000), and executive review (code 11-1000). The hourly costs (wages plus benefits) are $65.07, $143.68, and $96.68, respectively. We weighted the hourly cost figure to account for the fraction of time for each skill set per response, and used an estimate of ¾, ⅛, and ⅛ respectively. We used the following formula for the weighted hourly cost figure: $65.07 (0.75) + $143.68 (0.125) + $96.68 (0.125) = $78.85 (rounded).

We estimate the total time required per change to be 320 hours. Because a response encompasses one year where there are, on average, 1.5 changes, the total time per response is 480 hours (1.5 * 320 hours).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 11, 2018.
Kimberly D. Bose,
Secretary.

[FR Doc. 2018-12942 Filed 6-15-18; 8:45 am]

BILLING CODE 6717-01-P